DEPARTMENT OF TRANSPORTATION

Maritime Administration

Reports, Forms and Recordkeeping Requirements; Agency Information Collection Activity Under OMB Review

AGENCY: Maritime Administration, DOT.

ACTION: Notice and request for comments.

SUMMARY: In compliance with the Paperwork Reduction Act of 1995 (44 U.S.C. 3501 et seq.), this notice announces that the Information Collection abstracted below has been forwarded to the Office of Management and Budget (OMB) for review and approval. The nature of the information collection is described as well as its expected burden. The Federal Register Notice with a 60-day comment period soliciting comments on the following collection of information was published on August 29, 2005, and comments were due by October 28, 2005. No comments were received.

DATES: Comments must be submitted on or before December 29, 2005.

FOR FURTHER INFORMATION CONTACT: T. Mitchell Hudson, Maritime Administration, 400 Seventh Street Southwest, Washington, DC 20590. Telephone: 202-366-5320; FAX: 202-366-7485; or e-mail: mitch.hudson@dot.gov. Copies of this collection also can be obtained from that office.

SUPPLEMENTARY INFORMATION: Maritime Administration (MARAD).

Title: Eligibility of U.S.-flag Vessels 100 feet or Greater in Registered Length To Obtain a Fishery Endorsement to the Vessel's Documentation.

OMB Control Number: 2133-0530.

Type of Request: Extension of currently approved collection.

Affected Public: Vessel owners, charterers, mortgagees, mortgage trustees and managers of vessels of 100 feet or greater who seek a fishery endorsement for the vessel.

Forms: None.

Abstract: In accordance with the American Fisheries Act of 1998 (AFA), owners of vessels of 100 feet or greater who wish to obtain a fishery endorsement to the vessel's documentation will be required to file an affidavit of United States citizenship. The information collection is necessary for MARAD to determine that a given vessel is owned and controlled by citizens of the United States in accordance with the requirements of the AFA, and therefore, is eligible to receive a fishery endorsement to its documentation.

Annual Estimated Burden Hours: 2,950 hours.

ADDRESSES: Send comments to the Office of Information and Regulatory Affairs, Office of Management and Budget, 725 17th Street, Northwest, Washington, DC 20503, Attention MARAD Desk Officer.

Comments are invited on: Whether the proposed collection of information is necessary for the proper performance of the functions of the agency, including whether the information will have practical utility; the accuracy of the agency's estimate of the burden of the proposed information collection; ways to enhance the quality, utility and clarity of the information to be collected; and ways to minimize the burden of the collection of information on respondents, including the use of automated collection techniques or other forms of information technology. A comment to OMB is best assured of having its full effect if OMB receives it within 30 days of publication.

Authority: 49 CFR 1.66.

Issued in Washington, DC on November 16, 2005.
Joel C. Richard,
Secretary, Maritime Administration.

[FR Doc. E5-6638 Filed 11-28-05; 8:45 am]

BILLING CODE 4910-81-P